PEACE CORPS

Information Collection Requests Under OMB Review

AGENCY: Peace Corps.

ACTION: 30-Day notice and request for comments.

SUMMARY: The Peace Corps will submit the following information collection request to the Office of Management and Budget (OMB) for approval. The purpose of this notice is to allow 30 days for public comment in the Federal Register preceding submission to OMB. We are conducting this process in accordance with the Paperwork Reduction Act of 1995 (44 USC Chapter 35).

DATES: Submit comments on or before August 8, 2012.

ADDRESSES: Interested persons are invited to submit comments regarding this proposal. Comments should refer to the proposal by name/or OMB approval number and should be sent via email to: oira_submission@omb.eop.gov or fax to: 202-395-3086. Attention: Desk Officer for Peace Corps.

FOR FURTHER INFORMATION CONTACT: Denora Miller, FOIA Officer, Peace Corps, 1111 20th Street NW., Washington, DC 20526, (202) 692-1236, or email at pcfr@ peacecorps.gov. Copies of available documents submitted to OMB may be obtained from Denora Miller.

SUPPLEMENTARY INFORMATION: The Peace Corps' Press Office uses the Hometown News Release Form to collect information about a Peace Corps invitee's decision to serve and their local newspapers.

Method: The Peace Corps currently emails the Hometown News Release Form to invitees. The respondent returns the form by email. The Hometown News Release Form will be available through the Peace Corps' new volunteer delivery and support system. The new method will replace sending the form by email.

Title: Hometown News Release Form.

OMB Control Number: 0420—pending.

Type of Information Collection: Existing collection in use without an OMB control number.

Affected Public: Individuals or households.

Respondents' Obligation to Reply: Voluntary.

General Description of Collection: This information is used to inform reporters from local and college newspapers, as well as radio and television stations about an invitee's decision to serve in the Peace Corps. It helps notify the community that their neighbor or classmate will be gone for two years and also helps Peace Corps recruit the next generation of Peace Corps volunteers.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on July 3, 2012.
Garry W. Stanberry,
Acting Associate Director, Management.

[FR Doc. 2012-16652 Filed 7-6-12; 8:45 am]

BILLING CODE 6051-01-P